DEPARTMENT OF ENERGY

Federal Energy Regulatory Commission

Combined Notice of Filings #2

Take notice that the Commission received the following electric rate filings:

Docket Numbers: ER24-1170-000.

Applicants: PJM Interconnection, L.L.C.

Description: 205(d) Rate Filing: Amendment to ISA, Service Agreement No. 3634; Queue No. S14 to be effective 4/1/2024.

Filed Date: 2/1/24.

Accession Number: 20240201-5157.

Comment Date: 5 p.m. ET 2/22/24.

Docket Numbers: ER24-1171-000.

Applicants: Duke Energy Carolinas, LLC.

Description: 205(d) Rate Filing: DEC—South Carolina Public Service Authority Reimbursement Agreement RS No. 637 to be effective 4/2/2024.

Filed Date: 2/1/24.

Accession Number: 20240201-5160.

Comment Date: 5 p.m. ET 2/22/24.

Docket Numbers: ER24-1172-000.

Applicants: Avista Corporation.

Description: 205(d) Rate Filing: Avista Corp RS T1215 Interconnected System Agmt BPA to be effective 4/1/2024.

Filed Date: 2/1/24.

Accession Number: 20240201-5168.

Comment Date: 5 p.m. ET 2/22/24.

Docket Numbers: ER24-1173-000.

Applicants: Midcontinent Independent System Operator, Inc., American Transmission Company LLC.

Description: 205(d) Rate Filing: Midcontinent Independent System Operator, Inc. submits tariff filing per 35.13(a)(2)(iii: 2024-02-01_SA 4237 ATC-WPL PCA (Grant County) to be effective 4/2/2024.

Filed Date: 2/1/24.

Accession Number: 20240201-5173.

Comment Date: 5 p.m. ET 2/22/24.

Docket Numbers: ER24-1174-000.

Applicants: PJM Interconnection, L.L.C.

Description: Tariff Amendment: Notice of Cancellation of WMPA, SA No. 6084; Queue No. AF2-292 re: withdrawal to be effective 4/2/2024.

Filed Date: 2/1/24.

Accession Number: 20240201-5180.

Comment Date: 5 p.m. ET 2/22/24.

Docket Numbers: ER24-1175-000.

Applicants: NSTAR Electric Company.

Description: 205(d) Rate Filing: Hingham Municipal Lighting Plant Facilities Support Agreement to be effective 2/2/2024.

Filed Date: 2/1/24.

Accession Number: 20240201-5183.

Comment Date: 5 p.m. ET 2/22/24.

Docket Numbers: ER24-1176-000.

Applicants: Southern California Edison Company.

Description: 205(d) Rate Filing: Second Amendment GIA & DSA, Rhodia (WDT891/SA Nos. 472-473) to be effective 2/2/2024.

Filed Date: 2/1/24.

Accession Number: 20240201-5185.

Comment Date: 5 p.m. ET 2/22/24.

Docket Numbers: ER24-1177-000.

Applicants: Central Maine Power Company.

Description: Baseline eTariff Filing: Request for Approval of New Electric Delivery Rate Schedule for Energy Storage to be effective 2/2/2024.

Filed Date: 2/1/24.

Accession Number: 20240201-5191.

Comment Date: 5 p.m. ET 2/22/24.

Docket Numbers: ER24-1178-000.

Applicants: PJM Interconnection, L.L.C.

Description: Tariff Amendment: Cancellation of WMPA, Service Agreement No. 5741; AF2-430 to be effective 4/2/2023.

Filed Date: 2/1/24.

Accession Number: 20240201-5198.

Comment Date: 5 p.m. ET 2/22/24.

Docket Numbers: ER24-1179-000.

Applicants: Midcontinent Independent System Operator, Inc.

Description: 205(d) Rate Filing: 2024-02-01_Att X, Appendix 6-Inverter Based Resources to be effective 4/2/2024.

Filed Date: 2/1/24.

Accession Number: 20240201-5203.

Comment Date: 5 p.m. ET 2/22/24.

Take notice that the Commission received the following electric securities filings:

Docket Numbers: ES24-21-000.

Applicants: Keystone Appalachian Transmission Company.

Description: Application Under Section 204 of the Federal Power Act for Authorization to Issue Securities of Keystone Appalachian Transmission Company.

Filed Date: 1/31/24.

Accession Number: 20240131-5617.

Comment Date: 5 p.m. ET 2/21/24.

Docket Numbers: ES24-22-000.

Applicants: Mid-Atlantic Interstate Transmission, LLC.

Description: Application Under Section 204 of the Federal Power Act for Authorization to Issue Securities of Mid-Atlantic Interstate Transmission, LLC.

Filed Date: 1/31/24.

Accession Number: 20240131-5618.

Comment Date: 5 p.m. ET 2/21/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: February 2, 2024.
Debbie-Anne A. Reese,
Acting Secretary.

[FR Doc. 2024-02609 Filed 2-7-24; 8:45 am]

BILLING CODE 6717-01-P